FEDERAL COMMUNICATIONS COMMISSION

Public Information Collection Approved by the Office of Management and Budget

May 3, 2005.

SUMMARY: The Federal Communications Commissions (FCC) has received Office of Management and Budget (OMB) approval for the following public information collection pursuant to the Paperwork Reduction Act of 1995, Pub. L. 96-511. An agency may not conduct or sponsor a collection of information unless it displays a currently valid control number. Notwithstanding any other provisions of law, no person shall be subject to any penalty for failing to comply with a collection of information subject to the Paperwork Reduction Act (PRA) that does not display a valid control number.

FOR FURTHER INFORMATION CONTACT: For additional information or questions concerning the OMB control number and expiration date should be directed to Kim Matthews, Federal Communications Commission, 445 12th Street, SW., Washington, DC 20554, (202) 418-2120 or via the Internet to Kim.Matthews@fcc.gov.

SUPPLEMENTARY INFORMATION:

OMB Control Number: 3060-1082.

OMB Approval Date: 04/14/05.

OMB Expiration Date: 04/30/08.

OMB Control Number: 3060-1082.

Title: Section 73.1201 Station Identification.

Form Number: N/A.

Respondents: Business or other for-profit entities, Not-for-profit institutions.

Number of Respondents: 1,700.

Estimated Hours per Response: 2 hours.

Needs and Uses:On August 4, 2004, the Commission adopted a Report and Order in MB Docket No. 03-15, In the Matter of Second Periodic Review of the Commission's Rules and Policies Affecting the Conversion to Digital Television. With this Report and Order, the Commission requires digital television stations to follow the same rules for station identification as analog television stations. 47 CFR 73.1201 (a) requires licensees to make broadcast station identification announcements at the beginning and ending of each time of operation, and hourly, as close to the hour as feasible, at a natural break in program offerings. Television and Class A television broadcast stations may make these announcements visually or aurally. 47 CFR 73.1201 (b) requires the licensees' station identification to consist of the station's call letters immediately followed by the community or communities specified in its license as the station's location. The name of the licensee, the station's frequency, the station's channel number, and/or the station's network affiliation may be inserted between the call letters and station location. DTV stations choosing to include the station's channel number in the station identification must use the station's major channel number and may distinguish multicast program streams.

Federal Communications Commission.
Marlene H. Dortch,
Secretary.

[FR Doc. 05-10241 Filed 5-24-05; 8:45 am]

BILLING CODE 6712-01-P